DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. chapter 35). To request a copy of the clearance requests submitted to OMB for review, call the HRSA Reports Clearance Office on (301) 443-1129.

The following request has been submitted to the Office of Management and Budget for review under the Paperwork Reduction Act of 1995:

Proposed Project: Data System for Organ Procurement and Transplantation Network and Associated Forms (OMB No. 0915-0157)—Revision

Section 372 of the Public Health Service (PHS) Act requires that the Secretary, by contract, provide for the establishment and operation of an Organ Procurement and Transplantation Network (OPTN). The OPTN, among other responsibilities, operates and maintains a national waiting list of individuals requiring organ transplants, maintains a computerized system for matching donor organs with transplant candidates on the waiting list, and operates a 24-hour telephone service to facilitate matching organs with individuals included in the list.

Data for the OPTN data system are collected from transplant hospitals, organ procurement organizations, and tissue-typing laboratories. The information is used to match donor organs with recipients, to monitor compliance of member organizations with OPTN rules and requirements, and to report periodically on the clinical and scientific status of organ donation and transplantation in this country. Data are used in the development and revision of OPTN rules and requirements, operating procedures, and standards of quality for organ acquisition and preservation, some of which have provided the foundation for development of Federal regulations. The practical utility of the data collection is further enhanced by requirements that the OPTN data must be made available without restriction for use by OPTN members, the Scientific Registry of Transplant Recipients, the Department of Health and Human Services, and others for evaluation, research, patient information, and other important purposes.

Revisions in the 28 data collection forms are intended to clarify existing questions, to provide additional detail and categories to avoid confusion and be more inclusive, to remove obsolete data, and to comply with requests for more complete and precise data.

Estimates of Annualized Hour Burden
Worksheet | Number of respondents | Responses per respondent | Total responses | Hours per response | Total burden hours
Deceased Donor Registration | 59 | 173 | 10,207 | 0.3 | 3,062.10
Death referral data | 59 | 12 | 708 | 10 | 7,080.00
Living Donor Registration | 692 | 10 | 6,920 | 0.2 | 1,384.00
Living Donor Follow-up | 692 | 19 | 13,148 | 0.1 | 1,314.80
Donor Histocompatibility | 152 | 87 | 13,224 | 0.1 | 1,322.40
Recipient Histocompatibility | 152 | 163 | 24,776 | 0.1 | 2,477.60
Heart Candidate Registration | 139 | 23 | 3,197 | 0.3 | 959.10
Lung Candidate Registration | 70 | 28 | 1,960 | 0.3 | 588.00
Heart/Lung Candidate Registration | 72 | 1 | 72 | 0.3 | 21.60
Thoracic Registration | 139 | 24 | 3,336 | 0.3 | 1,000.80
Thoracic Follow-up | 139 | 174 | 24,186 | 0.2 | 4,837.20
Kidney Candidate Registration | 247 | 109 | 26,923 | 0.2 | 5,384.60
Kidney Registration | 247 | 65 | 16,055 | 0.3 | 4,816.50
Kidney Follow-up* | 247 | 493 | 121,771 | 0.2 | 24,354.20
Liver Candidate Registration | 123 | 82 | 10,086 | 0.2 | 2,017.20
Liver Registration | 123 | 46 | 5,658 | 0.4 | 2,263.20
Liver Follow-up | 123 | 299 | 36,777 | 0.3 | 11,033.10
Kidney/Pancreas Candidate Registration | 139 | 12 | 1,668 | 0.2 | 333.60
Kidney/Pancreas Registration | 139 | 7 | 973 | 0.4 | 389.20
Kidney/Pancreas Follow-up | 139 | 64 | 8,896 | 0.3 | 2,668.80
Pancreas Candidate Registration | 139 | 7 | 973 | 0.2 | 194.60
Pancreas Registration | 139 | 4 | 556 | 0.3 | 166.80
Pancreas Follow-up | 139 | 20 | 2,780 | 0.2 | 556.00
Intestine Candidate Registration | 44 | 5 | 220 | 0.2 | 44.00
Intestine Registration | 44 | 3 | 132 | 0.2 | 26.40
Intestine Follow-up | 44 | 8 | 352 | 0.2 | 70.40
Immunosuppression Treatment | 692 | 38 | 26,296 | 0.025 | 657.40
Immunosuppression Treatment Follow-up | 692 | 281 | 194,452 | 0.025 | 4,861.30
Post Transplant Malignancy | 692 | 5 | 3,460 | 0.05 | 173.00
Total | 903 |  | 559,762 |  | 84,057.90
* Includes an estimated 6,000 kidney transplant patients transplanted prior to the initiation of the data system.

Written comments and recommendations concerning the proposed information collection should be sent within 30 days of this notice to: Desk Officer, Health Resources and Services Administration, Human Resources and Housing Branch, Office of Management and Budget, New Executive Office Building, Room 10235, Washington, DC.

Dated: March 3, 2004.
Tina M. Cheatham,
Director, Division of Policy Review and Coordination.

[FR Doc. 04-5304 Filed 3-9-04; 8:45 am]

BILLING CODE 4165-15-P